DEPARTMENT OF ENERGY

Federal Energy Regulatory Commission

Combined Notice of Filings #1

Take notice that the Commission received the following exempt wholesale generator filings:

Docket Numbers: EG25-392-000.

Applicants: Lorenzo Energy Storage, LLC.

Description: Lorenzo Energy Storage, LLC submits Notice of Self-Certification of Exempt Wholesale Generator Status.

Filed Date: 7/18/25.

Accession Number: 20250718-5088.

Comment Date: 5 p.m. ET 8/8/25.

Docket Numbers: EG25-393-000.

Applicants: Harquahala Flats Energy Storage, LLC.

Description: Harquahala Flats Energy Storage, LLC submits Notice of Self-Certification of Exempt Wholesale Generator Status.

Filed Date: 7/18/25.

Accession Number: 20250718-5098.

Comment Date: 5 p.m. ET 8/8/25.

Docket Numbers: EG25-394-000.

Applicants: Greenlee Solar, LLC.

Description: Greenlee Solar, LLC submits Notice of Self-Certification of Exempt Wholesale Generator Status.

Filed Date: 7/18/25.

Accession Number: 20250718-5104.

Comment Date: 5 p.m. ET 8/8/25.

Docket Numbers: EG25-395-000.

Applicants: Dry Land Prairie Energy Storage, LLC.

Description: Dry Land Prairie Energy Storage, LLC submits Notice of Self-Certification of Exempt Wholesale Generator Status.

Filed Date: 7/18/25.

Accession Number: 20250718-5107.

Comment Date: 5 p.m. ET 8/8/25.

Docket Numbers: EG25-396-000.

Applicants: Benton Solar, LLC.

Description: Benton Solar, LLC submits Notice of Self-Certification of Exempt Wholesale Generator Status.

Filed Date: 7/18/25.

Accession Number: 20250718-5111.

Comment Date: 5 p.m. ET 8/8/25.

Take notice that the Commission received the following electric rate filings:

Docket Numbers: ER25-2375-002.

Applicants: Deseret Generation & Transmission Co-operative, Inc.

Description: Tariff Amendment: 2025 RIA Annual Update Second Errata to be effective 7/1/2025.

Filed Date: 7/18/25.

Accession Number: 20250718-5003.

Comment Date: 5 p.m. ET 8/8/25.

Docket Numbers: ER25-2393-002.

Applicants: Holtec Palisades, LLC.

Description: Tariff Amendment: Amendment to MBR Application_Shortened Comment Period to be effective 6/2/2025.

Filed Date: 7/18/25.

Accession Number: 20250718-5078.

Docket Numbers: ER25-2888-000.

Applicants: Gibson Solar, LLC.

Description: Compliance filing: Notice of Non-Material Change in Status and MBR Tariff Revisions to be effective 9/16/2025.

Filed Date: 7/17/25.

Accession Number: 20250717-5135.

Comment Date: 5 p.m. ET 8/7/25.

Docket Numbers: ER25-2889-000.

Applicants: Entergy Arkansas, LLC.

Description: 205(d) Rate Filing: MSS-4R Nuclear PTC to be effective 9/15/2025.

Filed Date: 7/17/25.

Accession Number: 20250717-5142.

Comment Date: 5 p.m. ET 8/7/25.

Docket Numbers: ER25-2890-000.

Applicants: System Energy Resources, Inc.

Description: 205(d) Rate Filing: SERI UPSA Post-Tax Credit to be effective 9/15/2025.

Filed Date: 7/17/25.

Accession Number: 20250717-5144.

Comment Date: 5 p.m. ET 8/7/25.

Docket Numbers: ER25-2890-001.

Applicants: System Energy Resources, Inc.

Description: Tariff Amendment: SERI UPSA PTC Amendment to be effective 9/15/2025.

Filed Date: 7/18/25.

Accession Number: 20250718-5103.

Comment Date: 5 p.m. ET 8/8/25.

Docket Numbers: ER25-2891-000.

Applicants: New York Independent System Operator, Inc.

Description: 205(d) Rate Filing: NYISO 205: 3rd Amended Development Agreement between NYISO, NY Transco (SA2510) to be effective 6/30/2025.

Filed Date: 7/18/25.

Accession Number: 20250718-5029.

Comment Date: 5 p.m. ET 8/8/25.

Docket Numbers: ER25-2892-000.

Applicants: Otter Tail Power Company.

Description: 205(d) Rate Filing: Certificate of Concurrence—Joint Pricing Zone Revenue Allocation to be effective 1/1/2025.

Filed Date: 7/18/25.

Accession Number: 20250718-5031.

Comment Date: 5 p.m. ET 8/8/25.

Docket Numbers: ER25-2893-000.

Applicants: PJM Interconnection, L.L.C.

Description: 205(d) Rate Filing: NSA, Original Service Agreement No. 7708; Project Identifier No. AF1-228 to be effective 6/18/2025.

Filed Date: 7/18/25.

Accession Number: 20250718-5042.

Comment Date: 5 p.m. ET 8/8/25.

Docket Numbers: ER25-2894-000.

Applicants: NECEC Transmission LLC, ISO New England Inc.

Description: 205(d) Rate Filing: NECEC Transmission LLC submits tariff filing per 35.13(a)(2)(iii: NECEC Transmission Line LLC—Schedule 20B to be effective 9/16/2025.

Filed Date: 7/18/25.

Accession Number: 20250718-5045.

Comment Date: 5 p.m. ET 8/8/25.

Docket Numbers: ER25-2895-000.

Applicants: Tri-State Generation and Transmission Association, Inc.

Description: Tariff Amendment: Notice of Cancellation of Rate Schedule FERC No. 254 to be effective 6/30/2025.

Filed Date: 7/18/25.

Accession Number: 20250718-5075.

Comment Date: 5 p.m. ET 8/8/25.

Docket Numbers: ER25-2896-000.

Applicants: Southwest Power Pool, Inc.

Description: 205(d) Rate Filing: South Central MCN—Name Change to GridLiance High Plains LLC to be effective 7/1/2018.

Filed Date: 7/18/25.

Accession Number: 20250718-5102.

Comment Date: 5 p.m. ET 8/8/25.

Docket Numbers: ER25-2897-000.

Applicants: PJM Interconnection, L.L.C.

Description: 205(d) Rate Filing: Clean-Up Filing, Schedule 12-Appendix A and Schedule 12-Appendix C to be effective 3/5/2015.

Filed Date: 7/18/25.

Accession Number: 20250718-5108.

Comment Date: 5 p.m. ET 8/8/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organization, Tribal members and others, access publicly available information and navigate Commission processes.

For public inquiries and assistance with making filings such as interventions, comments, or requests for rehearing, the public is encouraged to contact OPP at (202) 502-6595 or OPP@ferc.gov.

Dated: July 18, 2025.
Carlos D. Clay,
Deputy Secretary.

[FR Doc. 2025-13828 Filed 7-22-25; 8:45 am]

BILLING CODE 6717-01-P